NUCLEAR REGULATORY COMMISSION

[Docket Nos. 52-025 and 52-026; ASLBP No. 16-944-01-LA-BD01]

Atomic Safety and Licensing Board; Before Administrative Judges: Ronald M. Spritzer, Chairman; Nicholas G. Trikouros; Dr. James F. Jackson; in the Matter of Southern Nuclear Operating Company, Inc.; (Vogtle Electric Generating Plant, Units 3 and 4)

February 10, 2016.

Order

(Scheduling Oral Argument)

Before the Board is a petition to intervene and request for a hearing, filed by Blue Ridge Environmental Defense League and its chapter Concerned Citizens of Shell Bluff (collectively Petitioner).¹ Oral argument on contention admissibility will be held on Tuesday, March 15, 2016, beginning at 10:00 a.m. EDT. This argument will take place at the U.S. Bankruptcy Court, Federal Justice Center, Plaza Building, 600 James Brown Boulevard (formerly 9th Street), Augusta, GA 30901.

¹ Amended Petition for Leave to Intervene and Request for Hearing by the Blue Ridge Environmental Defense League and its Chapter Concerned Citizens of Shell Bluff (Dec. 23, 2015).

Instructions

On or before Friday, March 11, 2016, the Petitioner, the Licensee, and the NRC Staff must each provide the names of their representatives by email to the Board and the service list. Only designated representatives will be permitted to present oral argument. Each counsel or other representative for each participant in this proceeding who has not already done so must file and serve a notice of appearance on or before March 11, 2016, containing all of the information required by 10 CFR § 2.314(b).

The primary purpose of this oral argument is for the Board to ask questions and receive answers concerning contention admissibility issues presented by the pleadings. As to each contention, the Petitioner shall have 15 minutes to present an introductory argument, and the NRC Staff and the Licensee shall each have 10 minutes as well. The Petitioner may reserve up to 5 minutes of its allotted time for rebuttal. No other rebuttal will be permitted.

In general, the participants should not repeat arguments already presented in their written filings, but should focus on responding to the Board's questions. The argument is not an evidentiary hearing, and the participants therefore should not attempt to introduce evidence during the argument. The participants should advise the Board and the other participants no later than March 8, 2016 if they plan to refer to any type of visual aid during the argument. No material that is not already cited in the record before the Board should be used as a visual aid.

Public Attendance

The public is welcome to attend the argument, but space is limited within the courtroom. Additionally, only the parties' designated representatives will be permitted to participate in the argument. Neither signs nor any manner of demonstration will be permitted in the courtroom. Those people wishing to attend the oral argument in person should contact the Board's law clerk, Cooper Strickland, at 301-415-5880 or Cooper.Strickland@nrc.gov, no later than Wednesday, March 9, 2016 to provide their names for security purposes. All persons participating in person must present a valid photo ID and should arrive at least fifteen minutes early so as to allow sufficient time to pass through security screening. Furthermore, cell phones are not permitted in the Federal Justice Center.

Transcript Availability

Sometime after March 15, 2016, a transcript of the oral argument will be available for public inspection electronically on the NRC's Electronic Hearing Docket (EHD). EHD is accessible from the NRC Web site at https://adams.nrc.gov/ehd. For additional information regarding the EHD please see http://www.nrc.gov/about-nrc/regulatory/adjudicatory.html#ehd. Persons who do not have access to the internet or who encounter problems in accessing the documents located on the NRC's Web site may contact the NRC Public Document Room reference staff by email to pdr@nrc.gov or by telephone at (800) 397-4209 or (301) 415-4737. Reference staff are available Monday through Friday between 8:00 a.m. and 4:00 p.m. ET, except federal holidays. For additional information regarding the NRC Public Document Room please see http://www.nrc.gov/reading-rm/pdr.html.

It is so ordered.

Rockville, Maryland February 10, 2016.
For The Atomic Safety and Licensing Board.
Ronald M. Spritzer,
Chairman, Administrative Judge.

[FR Doc. 2016-03372 Filed 2-17-16; 8:45 am]

BILLING CODE 7590-01-P